DEPARTMENT OF HEALTH AND HUMAN SERVICES

42 CFR Parts 70 and 71

RIN 0920-AA03

Control of Communicable Diseases

AGENCY: Centers for Disease Control and Prevention (CDC), Department of Health and Human Services (HHS).

ACTION: Proposed rule; extension of public comment period.

SUMMARY: On November 30, 2005, at 70 FR 71892, CDC published a proposed rule, “Control of Communicable Diseases,” to revise existing regulations related to preventing the introduction, transmission, or spread of communicable diseases from foreign countries into the U.S. and from one state or possession into another. CDC provided a 60 day public comment period. Written comments were to be received on or before January 30, 2006. We have received requests asking for an extension of the comment period. In consideration of these requests, CDC is extending the comment period by 30 days to March 1, 2006.

DATES: Written comments must be received on or before March 1, 2006. Written comments on the proposed information collection requirements must also be submitted on or before March 1, 2006. Please refer to SUPPLEMENTARY INFORMATION for additional information.

ADDRESSES: You may submit written comments to the following address: Centers for Disease Control and Prevention, Division of Global Migration and Quarantine, ATTN: Q Rule Comments, 1600 Clifton Road, NE, (E03), Atlanta, GA 30333. Comments will be available for public inspection Monday through Friday, except for legal holidays, from 9 a.m. until 5 p.m. at 1600 Clifton Road, NE, Atlanta, GA 30333. Please call ahead to 1-866-694-4867 and ask for a representative in the Division of Global Migration and Quarantine to schedule your visit. Comments also may be viewed at www.cdc.gov/ncidod/dq. You may submit written comments electronically via the Internet at http://www.regulations.gov or via e-mail to qrulepubliccomments@cdc.gov. To download an electronic version of the rule, you may access http://www.regulations.gov.

Mail written comments on the proposed information collection requirements to the following address: Office of Information and Regulatory Affairs, OMB, New Executive Office Building, 725 17th Street, NW., rm. 10235, Washington, DC 20503, Attn: Desk Officer for CDC.

FOR FURTHER INFORMATION CONTACT: Jennifer Brooks, Centers for Disease Control and Prevention, Division of Global Migration and Quarantine,1600 Clifton Road, NE, (E03), Atlanta, GA 30333; telephone (404) 498-2395.

SUPPLEMENTARY INFORMATION: On November 30, 2005, at 70 FR 71892, CDC published a proposed rule, “Control of Communicable Diseases,” revising existing regulations related to preventing the introduction, transmission, or spread of communicable diseases from foreign countries into the U.S. and from one state or possession into another. CDC provided a 60 day public comment period. Written comments were to be received on or before January 30, 2006. CDC has received requests asking for an extension of the public comment period beyond the 60 days originally provided. These requests have been made by industry trade organizations that represent businesses that will be affected by the proposed rule. In consideration of these concerns, CDC is extending the comment period by 30 days (until March 1, 2006) in order to give all interested persons the opportunity to comment fully.

CDC's general policy for comments and other submissions from members of the public is to make these submissions available for public viewing on the Internet as they are received and without change, including any personal identifiers or contact information.

How Can I Get Copies of the NPRM and Other Related Information?

CDC has posted the NPRM and related materials to their Web site. These can be found at www.cdc.gov/ncidod/dq.

Dated: January 23, 2006.
Michael O. Leavitt,
Secretary.

[FR Doc. E6-1048 Filed 1-26-06; 8:45 am]

BILLING CODE 4163-18-P